DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to the Office of Management and Budget (OMB) under the Paperwork Reduction Act of 1995. To request more information on the proposed project or to obtain a copy of the data collection plans and draft instruments, e-mail paperwork@hrsa.gov or call the HRSA Reports Clearance Officer at (301) 443-1129.

Comments are invited on: (a) The proposed collection of information for the proper performance of the functions of the agency; (b) the accuracy of the agency's estimate of the burden of the proposed collection of information; (c) ways to enhance the quality, utility, and clarity of the information to be collected; and (d) ways to minimize the burden of the collection of information on respondents, including through the use of automated collection techniques or other forms of information technology.

Proposed Project: Healthy Weight Collaborative (OMB No. 0915-NEW)— [NEW].

Background: The mission of the Healthy Weight Collaborative (HWC) is to discover, identify, develop, and disseminate both evidence-based and promising clinical and community-based interventions to prevent and treat obesity. The HWC was funded by the Health Resources and Services Administration under Title V, Section 501(a)(2) of the Social Security Act (42 U.S.C. 701(a)(2)) and Section 4002 of the Patient Protection and Affordable Care Act (Pub. L. 111-148).

The goal of the HWC is to value and leverage each community team's strengths, networks, grantees, and expertise towards the common goal of promoting healthy weight for all populations, especially those at high risk for overweight and obesity.

The HWC is modeled after the Institute for Healthcare Improvement Collaborative Model for achieving breakthrough improvement. Also known as the Breakthrough Series, this model was developed in 1996 to help healthcare organizations make breakthrough improvements in quality while reducing costs. This model is designed to close the gap between science and practice by creating a structure in which organizations can easily learn from each other and from recognized experts in topic areas in which they want to make quality improvements.

Approximately 50 community teams will be recruited to participate in the HWC. The intended beneficiaries of this program are children and their families, and teams in the HWC can include health departments, community-based organizations, HRSA and the Department of Health and Human Services (HHS) grantees; especially safety net providers and other stakeholders in the HRSA and HHS program network. Teams will be asked to report on non-personally identifiable aggregate information from clinical and public health or community interventions related to four domains, including clinical and public health:

• Body Mass Index (BMI), collected from an electronic health record.

• Nutrition, which includes measures related to change in knowledge, attitudes, behavior, and consumption.

• Physical Activity, which includes measures related to change in knowledge, attitudes, behavior, and levels of activity.

• Partnerships and Process Improvement, which includes measures related to linkages made between clinical and community-based or public health programs, increased efficiencies related to these linkages, and the number of people served by these linkages.

The annual estimate of burden is as follows:

Instrument | Number of respondents | Responses per respondent | Total responses | Hours per response | Total burden hours
BMI | 50 | 30 | 1,500 | .10 | 150
Nutrition | 50 | 30 | 1,500 | .20 | 300
Physical Activity | 50 | 30 | 1,500 | .20 | 300
Partnerships and Process Improvement | 50 | 50 | 2,500 | .20 | 500
Total | 50 |  | 7,000 |  | 1,250

E-mail comments to paperwork@hrsa.gov or mail the HRSA Reports Clearance Officer, Room 10-33, Parklawn Building, 5600 Fishers Lane, Rockville, MD 20857. Written comments should be received within 60 days of this notice.

Dated: November 24, 2010.
Robert Hendricks,
Director, Division of Policy and Information Coordination.

[FR Doc. 2010-30177 Filed 11-29-10; 8:45 am]

BILLING CODE 4165-15-P